ENVIRONMENTAL PROTECTION AGENCY

40 CFR Part 52

[EPA-R01-OAR-2006-0930; A-1-FRL-8327-9]

Approval of Implementation Plan; Connecticut; Commitment to Submit Mid-Course Review

AGENCY: Environmental Protection Agency (EPA).

ACTION: Notice of commitment fulfillment.

SUMMARY: Notice is hereby given that the State of Connecticut has fulfilled the enforceable commitments it made to EPA to complete a mid-course review (MCR) assessing whether two one-hour ozone nonattainment areas are, or are not, making sufficient progress toward attainment of the one-hour ozone standard under the Clean Air Act (CAA). The two areas are the Connecticut portion of the New York-Northern New Jersey-Long Island 1-hour ozone nonattainment area, and the Greater Connecticut 1-hour ozone nonattainment area. EPA has reviewed the MCR documents submitted by Connecticut and has determined that Connecticut has met the commitment to perform these MCRs. EPA has sent a letter to Connecticut finding that their MCRs fulfill the commitment made by Connecticut in their 1-hour ozone attainment demonstrations.

ADDRESSES: EPA has established a docket for this action under Docket Identification No. EPA-R01-OAR-2006-0930. All documents in the docket are listed on the www.regulations.gov Web site. Although listed in the index, some information is not publicly available, i.e., CBI or other information whose disclosure is restricted by statute. Certain other material, such as copyrighted material, is not placed on the Internet and will be publicly available only in hard copy form. Publicly available docket materials are available either electronically through www.regulations.gov or in hard copy at the Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 to 4:30, excluding legal holidays.

FOR FURTHER INFORMATION CONTACT: Richard P. Burkhart, Air Quality Planning Unit, U.S. Environmental Protection Agency, EPA New England Regional Office, One Congress Street, Suite 1100 (CAQ), Boston, MA 02114-2023, telephone number (617) 918-1664.

SUPPLEMENTARY INFORMATION:

I. General Information

EPA's findings letter and Technical support Document (TSD) and the State's mid-course review (MCR) submittal are available at the Regional Office, which is identified in the ADDRESSES section above.

II. Further Information

A. Background

EPA's 1996 modeling guidance ¹ recognized the need to perform a MCR as a means for addressing uncertainty in the modeling results. In its December 16, 1999 proposed rulemakings on the 1-hour ozone attainment demonstrations for ten ozone nonattainment areas (see one example at 64 FR 70348), EPA stated that because of the uncertainty in long-term projections, an attainment demonstration that relies on weight of evidence needs to contain provisions for periodic review of monitoring, emissions, and modeling data to assess the extent to which refinements to emission control measures are needed. In those December 16, 1999 proposed rulemakings, EPA set forth its framework for reviewing and processing 1-hour ozone attainment demonstrations and one element of that framework was a commitment for a MCR.

¹ U.S. EPA (1996), Guidance on Use of Modeled Results to Demonstrate Attainment of the Ozone NAAQS, EPA-454/B-957-007, (June 1996), Web site: http://www.epa.gov/ttn/scram/ (file name: “O3TEST”).

A MCR provides an opportunity for the state and EPA to assess if a nonattainment area is, or is not, making sufficient progress toward attainment of the one-hour ozone standard. The MCR should utilize air quality monitoring and other data to assess whether the control measures relied on in a SIP's attainment demonstration have resulted in adequate improvement of the ozone air quality. The EPA believes that a MCR is a critical element in any attainment demonstration that employs a long-term projection period and relies on a weight-of-evidence test. The commitment to perform a MCR was required before EPA would approve most 1-hour ozone attainment demonstrations. Moreover, even though the 1-hour ozone standard has been revoked by EPA (70 FR 44470, June 15, 2005), the anti-backsliding provisions of EPA's 8-hour ozone implementation rule (69 FR 23951, April 30, 2004) continue to require areas with outstanding commitments to perform a 1-hour MCR to do so.

The two 1-hour ozone nonattainment areas in Connecticut that are the subject of this notice are the Connecticut portion of the New York-Northern New Jersey-Long Island ozone nonattainment area and the Greater Connecticut 1-hour ozone nonattainment area. The one-hour attainment demonstration for the Connecticut portion of the New York-Northern New Jersey-Long Island ozone nonattainment area, with the commitment to perform a MCR, was approved in 66 FR 63921, published on December 11, 2001. This area also had an emissions shortfall. Connecticut adopted additional control measures to fill this shortfall. EPA approved these measures as fulfilling the shortfall in a previous rulemaking. See 71 FR 51761 (August 31, 2006). The one-hour attainment demonstration for the Greater Connecticut 1-hour ozone nonattainment area, with the commitment to perform a MCR, was approved in 66 FR 634, published on January 3, 2001.

B. MCR Guidance

On March 28, 2002, EPA issued a memorandum entitled “Mid-Course Review Guidance for the 1-Hour Ozone Nonattainment Areas that Rely on Weight-of-Evidence for Attainment Demonstration.” Attached to that memorandum is a technical guidance document dated January 2002 entitled “Recommended Approach For Performing Mid-course Review of SIP's To Meet the 1-hour NAAQS for Ozone.” http://www.epa.gov/ttn/oarpg/t1/memoranda/policymem33d.pdf.

The technical guidance contains three basic steps: (1) Perform an administrative test (e.g., demonstrate whether the appropriate emission limits were adopted and implemented); (2) analyze available air quality, meteorology, emissions and modeling data and document findings; and (3) document conclusions regarding whether progress toward attainment is being made using a weight of evidence determination (which may or may not include new modeling analyses).

C. Review of MCR Submittals from Connecticut

EPA reviewed the MCR documents Connecticut submitted for the two areas in Connecticut required to submit an MCR. The review compared the MCRs with EPA guidance. EPA concluded that the two MCRs meet EPA guidance and fulfill the commitment Connecticut made in their one-hour attainment demonstrations. Specifically, both of Connecticut's MCRs include an emission reduction regulation review, as well as a trend analysis and air quality monitoring data. A TSD with more detail on Connecticut's MCRs and EPA's review of these MCRs has been prepared and is available from EPA at the address provided in the ADDRESSES section above.

III. Final Action

EPA has reviewed the MCR documents submitted by Connecticut and has determined that Connecticut has adequately met its commitment to perform a MCR. This action is being taken for the following one-hour ozone nonattainment areas: The Connecticut portion of the New York-Northern New Jersey-Long Island ozone nonattainment area; and the Greater Connecticut 1-hour ozone nonattainment area.

EPA has sent a letter to Connecticut finding that their MCRs fulfill the commitment made by Connecticut in their 1-hour ozone attainment demonstrations. A copy of this letter is available from EPA at the address provided in the ADDRESSES section above.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves a state commitment as meeting federal requirements and imposes no additional requirements beyond those imposed by state law. Accordingly, the Administrator certifies that this action will not have a significant economic impact on a substantial number of small entities under the Regulatory Flexibility Act (5 U.S.C. 601 et seq.). Because this finding approves pre-existing requirements under state law and does not impose any additional enforceable duty beyond that required by state law, it does not contain any unfunded mandate or significantly or uniquely affect small governments, as described in the Unfunded Mandates Reform Act of 1995 (Pub. L. 104-4).

This action also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999), because it merely approves a state commitment as meeting a federal standard, and does not alter the relationship or the distribution of power and responsibilities established in the Clean Air Act. This action also is not subject to Executive Order 13045 “Protection of Children from Environmental Health Risks and Safety Risks” (62 FR 19885, April 23, 1997), because it is not economically significant.

In reviewing SIP submissions, as well as submission of reports that fulfill a state commitment, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, as well as submission of reports that fulfill a state commitment, to use VCS in place of a SIP submission that otherwise satisfies the provisions of the Clean Air Act. Thus, the requirements of section 12(d) of the National Technology Transfer and Advancement Act of 1995 (15 U.S.C. 272 note) do not apply. This action does not impose an information collection burden under the provisions of the Paperwork Reduction Act of 1995 (44 U.S.C. 3501 et seq.)

List of Subjects in 40 CFR Part 52

Environmental protection, Air pollution control, Intergovernmental relations, Nitrogen dioxide, Ozone, Reporting and recordkeeping requirements, Volatile organic compounds.

Dated: June 6, 2007.
Robert W. Varney,
Regional Administrator, EPA New England.

[FR Doc. E7-11690 Filed 6-15-07; 8:45 am]

BILLING CODE 6560-50-P